FEDERAL RESERVE SYSTEM

Formations of, Acquisitions by, and Mergers of Bank Holding Companies; Correction

This notice corrects a notice (FR Doc. 02-20680) published on page 53354 of the issue for Thursday, August 15, 2002.

Under the Federal Reserve Bank of San Francisco heading, the entry for New Corporation, Oakland, California, is revised to read as follows:

A. Federal Reserve Bank of San Francisco (Maria Villanueva, Consumer Regulation Group) 101 Market Street, San Francisco, California 94105-1579:

1. New Met Financial Corporation, Oakland, California; to become a bank holding company by acquiring 100 percent of the voting shares of Met Financial Corporation, Oakland, California, and thereby indirectly acquire Metropolitan Bank, Oakland, California.

Comments on this application must be received by September 9, 2002.

Board of Governors of the Federal Reserve System, August 21, 2002.
Robert deV. Frierson,
Deputy Secretary of the Board.

[FR Doc. 02-21724 Filed 8-26-00; 8:45 am]

BILLING CODE 6210-01-S